DEPARTMENT OF DEFENSE

Department of the Army, Army Corps of Engineers

Notice of Early Scoping for the San Francisco Waterfront Flood Resiliency Study National Environmental Policy Act Compliance

AGENCY: Department of the Army, U.S. Army Corps of Engineers; Defense (DOD).

ACTION: Notice of Early Scoping.

SUMMARY: The San Francisco District, U.S. Army Corps of Engineers (USACE), intends to prepare a feasibility study integrated with an environmental assessment (EA) or environmental impact statement (EIS) to evaluate coastal storm and flood risk management alternatives along 7.5 miles of the San Francisco Waterfront, from Aquatic Park to Herons Head Park, in the City of San Francisco, San Francisco County, California. The Port of San Francisco is the non-federal partner for the study. USACE will conduct early scoping to solicit public participation and input to inform the environmental analyses and to assist with determining the appropriate level of NEPA documentation required for the study.

DATES: USACE requests that written comments regarding the scope of the environmental analysis and alternatives that should be considered as part of the study and NEPA analysis should be received by October 21, 2020.

ADDRESSES: Written scoping comments or requests to be added to the mailing list can be sent by email: SFWFRS@usace.army.mil, or by mail: Ms. Anne Baker, 450 Golden Gate Avenue, 4th Floor, San Francisco, California 94102.

FOR FURTHER INFORMATION CONTACT: Ms. Anne Baker via email or mail at (see ADDRESSES). Study information will also be posted periodically on the internet at: https://www.spn.usace.army.mil/Missions/Projects-and-Programs/Projects-A-Z/San-Francisco-Waterfront-Storm-Damage-Reduction/

For inquiries from the media, please contact the USACE San Francisco District Public Affairs Officer, Mr. Brandon Beach by email: Brandon.A.Beach@usace.army.mil or by telephone: (415) 503-6958.

SUPPLEMENTARY INFORMATION: The San Francisco District, U.S. Army Corps of Engineers (USACE), intends to prepare a feasibility study integrated with an environmental assessment (EA) or environmental impact statement (EIS) to evaluate coastal storm and flood risk management alternatives along 7.5 miles of the San Francisco Waterfront, from Aquatic Park to Herons Head Park, in the City of San Francisco, San Francisco County, California. The Port of San Francisco is the non-federal partner for the study. USACE will conduct early scoping to solicit public participation and input to inform the environmental analyses and to assist with determining the appropriate level of NEPA documentation required for the study.

USACE has not yet determined that an EIS will be necessary for the study, but will conduct the appropriate scoping and public outreach required for the preparation of an EIS, since it is the more stringent process. If at any time during the NEPA analysis USACE determines that there may be the potential for significant, unmitigable effects, then an EIS will be prepared. A formal Notice of Intent (NOI) to prepare an EIS would be filed in the Federal Register to initiate the EIS process. Should an EIS be necessary, written comments submitted during this early scoping period will be considered in development of the EIS. Written public comments in response to a Notice of Intent (NOI) to prepare an EIS would also be accepted and considered. USACE will substitute the public meetings associated with this Notice of Early Scoping for the scoping meetings that would normally occur after the publication of a NOI to prepare an EIS. Additional scoping meetings would therefore not be held, if an NOI to prepare an EIS is released. Written comments, including those on the scope of alternatives and impacts, will still be considered through any formal scoping period initiated by an NOI to prepare an EIS. The district would also seek to ensure that key resources agencies have had an informed opportunity to weigh in on subject proposals.

Please note that the San Francisco Planning Department (Planning Department) is the California Environmental Quality Act (CEQA) lead agency for the study. The Planning Department is conducting CEQA review under a separate process, which is not part of this early scoping effort under NEPA.

1. Study Authorization. The San Francisco Waterfront Flood Resiliency Study was originally authorized under Section 110 of the Rivers and Harbors Act of 1950, Public Law 515, 64 Stat. 163. The project was subsequently authorized under Section 142 of the Water Resources Development Act (WRDA) of 1976, Public Law 94-587, 90 Stat. 2917, 2930, as amended by Section 705 of WRDA of 1986, Public Law 99-662, 100 Stat. 4082, 4158. Authority for the NEPA early scoping process is provided by the Council on Environmental Quality (CEQ) Regulations (Forty Most Asked Questions Concerning CEQ's National Environmental Policy Act Regulation, 46 FR 18026, 18030 (March 23, 1981) as amended 1986, see Question 13).

2. Study Location. The proposed study area being considered is approximately 7.5 miles, from Aquatic Park to Herons Head Park, in the City of San Francisco, San Francisco County, California. This area of the waterfront is highly urbanized, supporting commercial, residential, recreation, tourism, and open space land uses. The area contains a complex mix of piers, structures, and seawall—many of which are considered historic. A study area map can be found online at: https://www.spn.usace.army.mil/Missions/Projects-and-Programs/Projects-A-Z/San-Francisco-Waterfront-Storm-Damage-Reduction/.

3. NEPA Purpose and Need. The purpose of the study is to determine strategies to manage the risk of impacts from future flooding in the project area, including public health and safety. Coastal storm risk management measures would seek to reduce effects to important building, utility, and transportation infrastructure and resources, as well as social and economic resources, including recreation facilities. During certain conditions such as storms, king tides, or El Niño events, water from the San Francisco Bay periodically overtops sections of the seawall along the San Francisco Embarcadero waterfront, resulting in flooding of low-lying areas. Sea level rise is expected to increase risk of flooding in the future. Flooding could result in limited or no access to the Embarcadero, Ferry Building and terminals, and portions of downtown San Francisco. Potential flooding of these areas could adversely impact building infrastructure, including historic buildings; transportation and transportation infrastructure, including the BART, Muni, and the Embarcadero roadway; recreation and tourism; government resources; local businesses and economy; and public health and safety. Therefore, with the existing and increasing risk as sea levels continue to rise there is a need to manage the risk of flooding in the study area.

4. Alternatives. Alternative formulation is in the early stages. USACE and the Port of San Francisco are developing preliminary alternatives that combine a broad suite of flood risk management structural, non-structural, and natural and nature-based measures in addition to a No Action Alternative. Structural measures include options such as construction of new levees and floodwalls, or improvements to the existing seawall to address coastal flooding along the waterfront. Nonstructural measures include options such as raising critical infrastructure, floodproofing structures, recommending land use or zoning restrictions, or enhancing flood warning systems. Natural and nature-based features include measures like horizontal levees, ecological seawalls or “ecotones” that reduce flood risk while improving the environment. USACE and the Port of San Francisco will coordinate with interested stakeholders to further describe and refine the alternatives and/or develop additional alternatives throughout the study process. As alternative formulation progresses, more information will be available on the project website: https://www.spn.usace.army.mil/Missions/Projects-and-Programs/Projects-A-Z/San-Francisco-Waterfront-Storm-Damage-Reduction/.

5. Scoping Process.

a. Two virtual public scoping meetings will be held to present an overview of the San Francisco Waterfront Flood Resiliency Study, the USACE alternative formulation process, and the NEPA process. Additionally, these meetings will afford all interested parties an opportunity to comment on the scope of analysis and potential alternatives. The first virtual scoping meeting will be held on September 16, 2020, from 6:00-7:30 p.m. The second virtual scoping meeting will be held on September 17, 2020, from 2:00-3:30 p.m. Information on accessing the virtual public meetings can be found at: https://www.spn.usace.army.mil/Missions/Projects-and-Programs/Projects-A-Z/San-Francisco-Waterfront-Storm-Damage-Reduction/.

b. USACE will be soliciting public comments throughout the 60-day scoping period (See Dates and Addresses above).

6. Availability. A minimum 30-day public review period will be provided for individuals, interested parties, and agencies to review and comment on the Draft NEPA document. All interested parties are encouraged to respond to this notice and provide a current address if they wish to be notified of the Draft NEPA Document's public circulation. The Draft NEPA Document is scheduled to be available for public review and comment in spring 2022.

PUBLIC DISCLOSURE STATEMENT: USACE believes it is important to inform the public of the environmental review process. To assist the USACE in identifying and considering issues related to the study, comments made during formal scoping and later on the draft NEPA document should be as specific as possible. Reviewers should structure their participation in the environmental review of the proposal so that it alerts USACE to the reviewers' position and concerns. It is very important that those interested in this study participate by the close of the scoping period so that substantive comments and objections are made available to the USACE at a time when we can meaningfully consider them for alternative development and incorporate them into the study, as appropriate.

Paul E. Owen,
Brigadier General, U.S. Army, Commanding.

[FR Doc. 2020-18226 Filed 8-19-20; 8:45 am]

BILLING CODE 3720-58-P